DEPARTMENT OF VETERANS AFFAIRS

Notice of Intent to Grant an Exclusive License

AGENCY: Office of Research and Development, Department of Veterans Affairs.

ACTION: Notice of Intent.

SUMMARY: Notice is hereby given that the Department of Veterans Affairs (VA), Office of Research and Development (ORD), intends to grant to Xenex Healthcare Services, LLC, 121 Interpark Suite 104, San Antonio, TX 78216, USA, an exclusive license to practice the following: U.S. Provisional Patent Application Serial No. 61/678,558, “Using Pulsed Xenon technology to clean reusable medical equipment and track cleaning using RFID technology,” filed August 1, 2012, and any subsequent non-provisional patent application(s) that will claim the benefit of U.S. Provisional Patent Application Serial No. 61/678,558, “Using Pulsed Xenon technology to clean reusable medical equipment and track cleaning using RFID technology.” Copies of the published patent applications may be obtained from the U.S. Patent and Trademark Office at www.uspto.gov.

DATES: Comments must be received within fifteen (15) days from the date of this published Notice.

ADDRESSES: Written comments may be submitted through www.regulations.gov; by mail or hand-delivery to the Director, Regulations Management (02REG), Department of Veterans Affairs, 810 Vermont Avenue NW., Room 1068, Washington, DC 20420; or by fax to (202) 273-9026. Copies of comments received will be available for public inspection in the Office of Regulation Policy and Management, Room 1063B, between the hours of 8:00 a.m. and 4:30 p.m., Monday through Friday (except holidays). Call (202) 461-4902 for an appointment. (This is not a toll-free number.) In addition, during the comment period, comments may be viewed online through the Federal Docket Management System at http://www.regulations.gov.

FOR FURTHER INFORMATION CONTACT: Director of Technology Transfer Program, Office of Research and Development (10P9TT), Department of Veterans Affairs, 810 Vermont Avenue NW., Washington, DC 20420, (202) 443-5640. (This is not a toll-free number.)

SUPPLEMENTARY INFORMATION: It is in the public interest to license this invention to Xenex Healthcare Services, LLC, to facilitate the development and commercialization of a device to clean medical equipment and track cleaned equipment. The prospective exclusive license will be royalty-bearing and will comply with the terms and conditions of 35 U.S.C. 209 and 37 CFR 404.7. The prospective exclusive license may be granted, unless VA ORD receives written evidence and argument within 15 days from the date of this published Notice, which establishes that the grant of the license would not be consistent with the requirements of 35 U.S.C. 209 and 37 CFR 404.7.

Approved: January 27, 2014.
Jose D. Riojas,
Chief of Staff, Department of Veterans Affairs.

[FR Doc. 2014-02180 Filed 1-31-14; 8:45 am]

BILLING CODE 8320-01-P